DEPARTMENT OF JUSTICE

Antitrust Division

Notice Pursuant to the National Cooperative Research and Production Act of 1993—Naval Surface Technology & Innovation Consortium

Notice is hereby given that, on May 13, 2021, pursuant to Section 6(a) of the National Cooperative Research and Production Act of 1993, 15 U.S.C. 4301 et seq. (“the Act”), Naval Surface Technology & Innovation Consortium (“NSTIC”) has filed written notifications simultaneously with the Attorney General and the Federal Trade Commission disclosing changes in its membership. The notifications were filed for the purpose of extending the Act's provisions limiting the recovery of antitrust plaintiffs to actual damages under specified circumstances.

Specifically, AeroVironment, Inc., Simi Valley, AL; Alion Science and Technology Corporation, McLean, VA; Autonodyne LLC, Boston, MA; Azimuth Corporation, Fairborn, OH; Bangham Engineering, Inc., Huntsville, AL; Chemring Energetic Devices, Downers Grove, IL; Concurrent Real-Time, Pompano Beach, FL; ElectraWatch an Austal USA Company, Charlottesville, VA; Fairbanks Morse, Beloit, WI; General Atomics Aeronautical Systems, Inc. (GA-ASI), Poway, CA; H6 Systems Inc., Nashua, NH; JEM Engineering, LLC, Laurel, MD; John H. Northrop and Associates, Clifton, VA; Kutta Technologies, Inc., Phoenix, AZ; Major Tool & Machine Inc., Indianapolis, IN; Metron, Inc., Reston, VA; Microwave Photonic Systems, Inc., West Chester, PA; NAL Research Corporation, Manassas, VA; Paragon Force Inc., Bloomfield, IN; PECO, Inc., Clackamas, OR; Pison Technology, Inc., Boston, MA; Prescient Edge Corporation, McLean, VA; Ravn Inc., San Francisco, CA; Redpoint Engineering Inc., Beavercreek, OH; Rhein Tech Laboratories, Inc., Herndon, VA; Rocket Communications Inc., San Francisco, CA; Saildrone, Inc., Alameda, CA; SEACORP, LLC, Middletown, RI; Smartsheet Inc., Bellevue, WA; Sol Firm LLC, Mount Pleasant, SC; Telesat U.S. Services, LLC, Arlington, VA; Terma North America, Warner Robins, GA; Titan Systems LLC, Leonardtown, MD; Voxel Innovations Inc., Raleigh, NC; Wave Motion Launch Corporation, Mountlake Terrace, WA; Zin Solutions, Inc. DBA Axiom Tower, Vero Beach, FL, have been added as parties to this venture and the members of the National Armaments Consortium (NAC), whose last filing can be found at (86 FR 25887).

No other changes have been made in either the membership or planned activity of the group research project. Membership in this group research project remains open, and NSTIC intends to file additional written notifications disclosing all changes in membership.

On October 8, 2019, NSTIC filed its original notification pursuant to Section 6(a) of the Act. The Department of Justice published a notice in the Federal Register pursuant to Section 6(b) of the Act on November 12, 2019 (84 FR 61071).

The last notification was filed with the Department on January 22, 2021. A notice was published in the Federal Register pursuant to Section 6(b) of the Act on February 12, 2021 (86 FR 9374).

Suzanne Morris,
Chief, Premerger and Division Statistics, Antitrust Division.

[FR Doc. 2021-12178 Filed 6-9-21; 8:45 am]

BILLING CODE P